DEPARTMENT OF AGRICULTURE

Forest Service

DEPARTMENT OF THE INTERIOR

Bureau of Land Management

Gunnison Basin Federal Lands Travel Management Plan

AGENCIES: Forest Service, USDA, Bureau of Land Management, USDI.

ACTION: Notice of intent to prepare an environmental impact statement.

DATES: Comments concerning the scope of analysis must be received on or before August 31, 2007. The draft environmental impact statement is expected to be released in February 2008 and the final environmental impact statement is expected in August 2008.

ADDRESSES: Send written comments to Gunnison Travel Management, GMUG National Forests, 2250 Highway 50, Delta, CO 81416.

FOR FURTHER INFORMATION CONTACT: Anne Janik, Public Involvement Specialist at ajanik@fs.fed.us, (970) 874-6637 or Gary Shellhorn, Team Leader at gshellhorn@fs.fed.us, (970) 874-6666.

SUMMARY: The Forest Service and the Bureau of Land Management (BLM) are to designate which roads or trails on federal lands administered by the BLM and the Forest Service within the Gunnison Field Office area and the Gunnison National Forest are open to motorized and/or mechanized travel. In so doing, both agencies will meet commitments set forth in the 2001 Gunnison Interim Travel Management Plan to further evaluate and analyze motorized travel needs on a route-by-route basis and comply with requirements of the Forest Service 2005 Travel Management Rule (36 CFR part 212) as well as policies for Public Lands found in the BLM Land Use Planning Handbook (H-1601-1). As a result of these travel management decisions, the Forest Service will produce a Motorized Vehicle Use Map (MVUM) depicting those routes on the Gunnison National Forest and the Gunnison Field Office Public lands that will remain open to motorized and/or mechanized travel. The MVUM will be the primary tool used to determine compliance and enforcement with motorized and mechanized vehicle use designations on the ground. Those existing routes and other user-created routes not designated open on the MVUM will be legally closed to motorized and mechanized travel. The decisions on motorized and mechanized travel do not include over-snow travel or existing winter-use recreation.

Background Information: The Gunnison Interim Travel Management Plan (2001), as an interim plan, was intended to be replaced by a more definitive and comprehensive designated system of routes to be maintained and remain open for motorized travel. The Gunnison Interim Travel Plan did not address whether specific routes were needed or were not needed to provide a manageable and sustainable transportation system on the Gunnison National Forest and Gunnison Field Office Public Lands. Nor did it fully evaluate the desired use by vehicle type or season of use on a route-by-route basis. The 2001 travel plan was implemented as an interim measure intended to halt the proliferation of user-created routes and attempt to restrict motorized travel to the then existing roads and trails. The 2001 travel plan needs to be amended, changed or superseded.

In addition to the 2001 commitment by both agencies to complete further travel management planning, the Forest Service 2005 Travel Management Rule (36 CFR 212) requires each National Forest unit to complete travel management planning that will include the designation of routes open to motorized travel culminating with the completion and publication of a Motor Vehicle Use Map (MVUM). The Chief of the Forest Service has set a 4-year target to complete these initial motorized use designations that will define the MVUM.

It is understood that the BLM will also include their route-by-route designations for motorized and mechanized travel on roads and trails traversing public lands in the Gunnison Field Office area on the Forest Service MVUM.

National Forest System (NFS) lands are lands managed by the Forest Service. Public lands are lands managed by BLM. Both National Forest System lands and public lands in the Gunnison Basin will be addressed in this effort.

Proposed Action: The proposed action is to designate selected roads and trails open to motorized and/or mechanized travel (wheeled vehicles only) on the Gunnison National Forest (NFS lands) and Gunnison Area public lands (BLM). Where it is appropriate and necessary, the designations will also set specific seasons (i.e., yearlong, summer, fall-summer-spring) of use and type of use (e.g., full-sized vehicles, ATV's, motorcycles, or mountain bikes) for those routes. The Forest Service will produce a Motor Vehicle Use Map (MVUM) depicting those routes which are open to the general public for motorized and/or mechanized travel.

Possible Alternatives: Alternatives to the proposed action will be considered and evaluated. The No Action alternative would be to adopt the September 1, 2000 map of existing roads and trails as those routes open to motorized and mechanized travel. Alternatives to the Proposed Action and No Action will depict differing combinations of routes to remain open to motorized and/or mechanized travel. The Proposed Action and the alternative actions will provide a system of routes that differ from existing conditions and the No Action alternative.

Less restrictive alternatives would generally entail designating a greater number of miles of road or trail to be open for motorized and mechanized travel than the Proposed Action. Alternatives considered to be less restrictive could also include fewer constraints on season of use or vehicle types allowed on designated routes. The less restrictive alternative would generally provide for more motorized and mechanized recreational use opportunities.

More restrictive alternatives would generally entail designating fewer miles of road or trail to be open for motorized and mechanized travel than the Proposed Action or have more constraints on season of use and vehicle types using designated routes. The more restrictive alternative(s) would provide motorized and mechanized recreational opportunities yet there may be a greater emphasis on non-motorized recreational opportunities.

A consequence of designating routes open for motorized and/or mechanized travel is that those existing routes not designated as open would be identified as closed to motorized and/or mechanized travel. Road closure procedures that involve ground disturbing activities would not be a part of the Proposed Action or alternatives and would generally require separate and distinct site-specific NEPA decisions regarding the implementation aspects of road closures. The environmental consequences of having routes closed to motorized and/or mechanized travel will be evaluated in this environmental assessment.

Identification of new routes that would meet the goals and objectives for a motorized and/or mechanized transportation system on both Public lands and NFS lands will be, as appropriate, a part of this travel management planning, but would require separate, site-specific NEPA decisions to implement ground disturbing activities associated with new route construction.

Lead Agencies: The Forest Service and the BLM are joint lead agencies (CEQ § 1506.2). USDA, Forest Service, Grand Mesa, Uncompahgre, and Gunnison National Forest. USDI, Bureau of Land Management, Gunnison Field Office.

Responsible Officials: The Responsible Official for the Grand Mesa, Uncompahgre, and Gunnison National Forest is Charles Richmond, Forest Supervisor, GMUG National Forest, 2250 Highway 50, Delta, CO 81401.

The Responsible Official for the BLM Gunnison Field Office is Kenny McDaniel, Manager, Gunnison Field Office, 216 North Colorado, Gunnison, CO 81230.

Nature of Decisions To Be Made: Based on the purpose and need for the proposed action, the Forest Supervisor and the Field Office Manager will evaluate the Proposed Action and other alternatives in order to make the following decisions for the specific federal lands they have authority over:

• Those roads or trails that will be designated as open to the public for motorized and/or mechanized travel; and,

• The allowed season and/or type of use for those routes open to motorized and/or mechanized travel.

Federal land managers are directed (Executive Order 11644, 36 CFR 212, and 43 CFR 8342.1) to ensure that the use of motorized vehicles and off-road vehicles will be controlled and directed so as to protect the resources of those lands, to promote the safety of users, minimize conflicts among the various uses of the federal lands, and to provide for public use of roads and trails designated as open.

Permits or Licenses Required: No other permits or licenses are required to be obtained by either the Forest Service or the BLM to make decisions regarding motorized and/or mechanized travel on federal lands managed by the two agencies.

Scoping Process: Preliminary public involvement was initiated in the summer 2006 in an effort to educate the public and stakeholders on the objectives of travel management. The public was also asked to provide input to the Forest Service and BLM on routes they wanted to remain open and/or those routes that may be in conflict with other desired conditions sought by the public on Forest and BLM lands. This initial comment period ended in October 2006 with the agencies receiving numerous comments on individual routes, a few general comments and some area-wide comments on travel. There were over 800 route specific comments, many of which addressed the same route(s).

This initial public input will help the Forest Service and BLM to develop a preliminary route-by-route proposed action that will be utilized in a more formal scoping process. The Forest Service and the BLM will jointly conduct the following public meetings to solicit for comments and concerns from the public and interested parties on motorized and/or mechanized travel on National Forest System (NFS) lands and Public Lands:

(1) Paonia—May 23 (Wednesday), 5:30-8 p.m.

Paonia Town Hall, 214 Grand Avenue.

(2) Gunnison—May 30 (Wednesday), 5:30-8 p.m.

Gunnison County Fairgrounds (Multi-purpose room). (Fred R. Field Western Heritage Center), 275 S. Spruce Street.

(3) Crested Butte—June 5 (Tuesday), 5:30-8 p.m.

Crested Butte Community School, 818 Red Lady Avenue.

(4) Lake City—June 6 (Wednesday), 5:30-8 p.m.

Lake City Community School (Middle/HS Wing, Room 6/8) 614 Silver.

Legal notices of those meetings and requests for comments will be published in two local newspapers; Delta County Independent for the Paonia Ranger District, and the Gunnison Country Times for the Gunnison Ranger District and BLM Gunnison Field Office.

Based on comments received as a result of this notice and after the Forest Service and BLM have conducted public meetings and afforded the public sufficient time to respond to the preliminary proposed action, the agencies will utilize the public scoping comments and concerns along with resource related input for the interdisciplinary team and other agency resource specialists to develop a set of issues to carry forward into the environmental analysis process.

Preliminary Issues: The Forest Service and BLM addressed several key issues in the 2000 Gunnison Travel Interim Restrictions Environmental Assessment which provide the agencies with a list of potential issues that can be expected to again come from the public regarding motorized and mechanized travel. The agencies have also gotten some indications of potential issues from the initial public involvement process conducted during the summer and fall of 2006. Those expected issues include:

(1) Adverse resource impacts caused by inappropriate types of vehicle use (e.g. motorized vehicles in fragile or steep terrain), proliferation of routes (e.g. parallel trails or roads, illegal travel off designated routes), and unrestricted season of use (e.g. routes open to motorized travel too long into the wet or muddy seasons).

(2) Infringement on wildlife caused by roads in important or critical wildlife habitat areas, too high of a density of roads in wildlife habitat areas, and disturbance to wildlife during critical lifecycle periods.

(3) Loss of recreational opportunity when existing routes are closed to motorized and/or mechanized travel.

(4) Loss of semi-primitive and primitive recreational opportunity if more routes or areas are open to motorized and/or mechanized travel.

(5) Failure to accommodate the fast growing number of motorized and/or mechanized users desiring to use federal lands for recreational riding of ATVs and mountain bikes.

(6) Inconsistencies between Forest Service and BLM restrictions and regulations for motorized and/or mechanized use of routes managed by those agencies.

(7) Enforcement concerns centered on whether either of the agencies have the ability to provide enforcement once decisions have been made on allowed routes and uses for motorized and/or mechanized travel.

(8) Safety concerns on routes where multiple vehicle types (e.g. full-sized trucks and cars, ATVs, motorcycles, mountain bikes) are allowed.

(9) Conflicts with landowners when routes cross private lands to access federally managed lands of the BLM and Forest Service.

(10) Jurisdictional questions regarding routes maintained by local governments or historically used by the public to access federally managed lands.

Both the Forest Service and the BLM recognize that this list of issues is not complete and will be further defined and refined as scoping continues. It is expected that a comprehensive list of key issues will be determined before the full range of alternatives is developed and the environmental analysis is begun.

Comments Requested: This notice of intent initiates the formal scoping process that guides the development of the environmental impact statement for the Gunnison Travel Management Plan.

However all comments received during the initial comment period (July to October 2006) will be brought forward into this formal scoping, and those who commented then need not comment again to have their comments considered, or to demonstrate their interest in this planning. Persons and organizations commenting during the initial scoping will be maintained on the mail list for future information about Gunnison Travel Management Planning.

Early Notice of Importance of Public Participation in Subsequent Environmental Review: A draft environmental impact statement will be prepared for public comment. The comment period on the draft environmental impact statement will be 45 days from the date that the Environmental Protection Agency (EPA) publishes the notice of availability in the Federal Register. Written comments are preferred and should include the name and address of the commenter. Comments submitted for this proposed action will be considered part of the public record.

The Forest Service believes, at this early stage, it is important to give reviewers notice of several court rulings related to public participation in the environmental review process. First, reviewers of draft environmental impact statements must structure their participation in the review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages Inc. v. Harris, 409 F. Supp. 1334, 1338 (E.D.Wis. 1980). Because of these court rulings, it is very important those interested in this proposed action participate by the close of the 45-day comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternative formulated and discussed in the statement. Reviewers may wish to refer to the Council on Environmental Quality Regulations for implementing the procedural provisions of the National Environmental Policy Act at 40 CFR 1503.3 in addressing these points.

Dated: April 30, 2007.
Charles S. Richmond,
Forest Supervisor.
Kenny McDaniel,
Manager, Gunnison Field Office.

[FR Doc. 07-2153 Filed 5-1-07; 8:45 am]

BILLING CODE 3410-11-M